NUCLEAR REGULATORY COMMISSION

[NRC-2010-0341]

Notice of Withdrawal of Application for Amendment to Facility Operating License

In the Matter of:
Entergy Nuclear Operations, Inc., Entergy Nuclear Generation Company (Pilgrim Nuclear Power Station) | Docket No. 50-293. License No. DPR-35.
Entergy Nuclear Indian Point 2, LLC (Indian Point Nuclear Generating Unit Nos. 1 and 2) | Docket Nos. 50-003, 50-247, and 72-51. License Nos. DPR-5, DPR-26.
Entergy Nuclear Indian Point 3, LLC (Indian Point Nuclear Generating Unit No. 3) | Docket No. 50-286. License No. DPR-64.
Entergy Nuclear Fitzpatrick, LLC (James A. FitzPatrick Nuclear Power Plant) | Docket Nos. 50-333 and 72-12. License No. DPR-59.
Entergy Nuclear Vermont Yankee, LLC (Vermont Yankee Nuclear Power Station) | Docket Nos. 50-271 and 72-59. License No. DPR-28.
Entergy Nuclear Palisades, LLC
(Palisades Nuclear Plant) | Docket Nos. 50-255 and 72-7. License No. DPR-20.
(Big Rock Point) | Docket Nos. 50-155 and 72-43. License No. DPR-6.

The U.S. Nuclear Regulatory Commission (the Commission) has granted the request of Entergy Nuclear Operations, Inc. (the licensee) to withdraw its applications for proposed amendment to various Facilities as follows:

Licensee name | License type | License No(s). | Docket No(s). | Application date
Entergy Nuclear Palisades, LLC | Renewed Facility Operating License | DPR-20 | 50-255, 72-7 | September 22, 2008.
Entergy Nuclear FitzPatrick, LLC | Renewed Facility Operating License | DPR-59 | 50-333, 72-12 | September 30, 2008.
Entergy Nuclear Indian Point 1, LLC | Provisional Facility Operating License | DPR-5 | 50-003 | September 30, 2008.
Entergy Nuclear Indian Point 2, LLC | Facility Operating License | DPR-26 | 50-247, and 72-51 | September 30, 2008.
Entergy Nuclear Indian Point 3, LLC | Facility Operating License | DPR-64 | 50-286 | September 30, 2008.
Entergy Nuclear Generation Company (Pilgrim Nuclear Power Station) | Facility Operating License | DPR-35 | 50-293 | September 30, 2008.
Entergy Nuclear Vermont Yankee, LLC | Facility Operating License | DPR-28 | 50-271, 72-59 | September 30, 2008.
Entergy Nuclear Palisades, LLC (Big Rock Point) | Facility Operating License | DPR-6 | 50-155, 72-43 | September 22, 2008.

The proposed amendments would have modified the respective facility operating licenses by revising the names of the plant to match the names of the new companies as follows:

Licensee name | Description of requested change
Entergy Nuclear Palisades, LLC | Revise FOL & TS Page 4.0-4 to change the names Entergy Nuclear Operations, Inc. and Entergy Nuclear Palisades, LLC to EquaGen Nuclear LLC and Enexus Nuclear Palisades, LLC, respectively.
Entergy Nuclear FitzPatrick, LLC | Revise FOL & TS Page 4.0-4 to change the names Entergy Nuclear Operations, Inc. and Entergy Nuclear FitzPatrick, LLC to EquaGen Nuclear LLC and Enexus Nuclear FitzPatrick, LLC, respectively.
Entergy Nuclear Indian Point 1, LLC | Revise FOL and Appendix A to change the names Entergy Nuclear Operations, Inc. and Entergy Nuclear Indian Point 2, LLC to EquaGen Nuclear LLC and Enexus Nuclear Indian Point 2, LLC, respectively.
Entergy Nuclear Indian Point 2, LLC | Revise FOL and the cover sheets for Appendix A & B to change the names Entergy Nuclear Operations, Inc. and Entergy Nuclear Indian Point 2, LLC to EquaGen Nuclear LLC and Enexus Nuclear Indian Point 2, LLC, respectively.
Entergy Nuclear Indian Point 3, LLC | Revise FOL, the cover sheet for Appendix A, and cover sheet & Pages 3-1 through 3-4, 5-1, and 5-5 for Appendix B to change the names Entergy Nuclear Operations, Inc. and Entergy Nuclear Indian Point 3, LLC to EquaGen Nuclear LLC and Enexus Nuclear Indian Point 3, LLC, respectively.
Entergy Nuclear Generation Company (Pilgrim Nuclear Power Station) | Revise FOL & TS Pages 1, 4.0-1, and Appendix B Page 1 to change the names Entergy Nuclear Operations, Inc. and Entergy Nuclear Generation Company to EquaGen Nuclear LLC and Enexus Nuclear Pilgrim, LLC, respectively.
Entergy Nuclear Vermont Yankee, LLC | Revise FOL & TS Pages 1 and 253 to change the names Entergy Nuclear Operations, Inc. and Entergy Nuclear Vermont Yankee, LLC to EquaGen Nuclear LLC and Enexus Nuclear Vermont Yankee, LLC, respectively.
Entergy Nuclear Palisades, LLC (Big Rock Point) | Revise FOL to change the names Entergy Nuclear Operations, Inc. and Entergy Nuclear Palisades, LLC to EquaGen Nuclear LLC and Enexus Nuclear Palisades, LLC, respectively.

The Commission had previously issued a Notice of Consideration of Issuance of Amendment published in the Federal Register as follows:

Licensee name | Federal Register notice and date of publication
Entergy Nuclear Palisades, LLC | 73 FR 68454, dated November 18, 2008.
Entergy Nuclear FitzPatrick, LLC | 74 FR 1714, dated January 13, 2009.
Entergy Nuclear Indian Point 1, LLC | 73 FR 68453, dated November 18, 2008.
Entergy Nuclear Indian Point 2, LLC | 73 FR 68453, dated November 18, 2008.
Entergy Nuclear Indian Point 3, LLC | 73 FR 68453, dated November 18, 2008.
Entergy Nuclear Generation Company (Pilgrim Nuclear Power Station) | 73 FR 65691, dated November 4, 2008.
Entergy Nuclear Vermont Yankee, LLC | 73 FR 65693, dated November 4, 2008.
Entergy Nuclear Palisades, LLC (Big Rock Point) | 73 FR 68453, dated November 18, 2008.

However, by letter dated October 14, 2010, the licensee withdrew the proposed change.

For further details with respect to this action, see the applications for amendment stated in the table above, and the licensee's letter dated October 14, 2010, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 25th day of October 2010.
For the Nuclear Regulatory Commission.
Bhalchandra K. Vaidya,
Project Manager, Plant Licensing Branch I-1, Division of Operating Reactor Licensing, Office of Nuclear Reactor Regulation.

[FR Doc. 2010-27509 Filed 10-29-10; 8:45 am]

BILLING CODE 7590-01-P